DEPARTMENT OF DEFENSE

Department of the Army

Publication of Changes to Freight Carrier Registration Program and the MTMC Freight Rules Publication 1C on Intransit Visibility of Motor Shipments Through Electronic Data Interchange

Correction

In notice document 07-144 beginning on page 2265 in the issue of Thursday, January 18, 2007, make the following corrections:

(1) On page 2265, in the third column, under the ADDRESSES heading, in the last line, “bernard@sddc.army.mil.” should read “bernardl@sddc.army.mil.”.

(2) On page 2266, in the first column, under the Exemptions heading, in the first line, “—Shipments other than monitor.” should read “—Shipments other than motor.”.

(3) On the same page, in the same column, under the System heading, in the first line, “FTN” should read “GTN”.

(4) On the same page, in the same column, under the Miscellaneous heading, in the fifth line, “ITN” should read “GTN”.

(5) On the same page, in the same column, under the same heading, in the 12th and 13th lines, the Web site is corrected to read as follows: http://www.sddc.army.mil/sddc/Content/Pub2494/TPA/pdf.

(6) On the same page, in the second column, in the first line, “original date” should read “arrival date”.

[FR Doc. C7-144 Filed 1-22-07; 8:45 am]

BILLING CODE 1505-01-D

DEPARTMENT OF THE TREASURY

Fiscal Service

31 CFR Part 356

[Docket No. BPD GSRS 06-03]

Sale and Issue of Marketable Book-Entry Treasury Bills, Notes and Bonds—Securities Eligible for Purchase in Legacy Treasury Direct

Correction

In rule document 07-209 beginning on page 2192 in the issue of Thursday, January 18, 2007, make the following corrections:

(1) On page 2192, in the third column, under the heading Procedural Requirements, in the first paragraph, in the last line, “U.S.C. 533(a)(2)” should read “U.S.C. 553(a)(2)”

§356.4 [Corrected]

(2) On page 2193, in the first column, in §356.4, in the fifth and sixth lines, “may obtain” should read “maintain”.

(3) On the same page, in the same column, in §356.4(c), in the sixth line, “beheld” should read “be held”.

[FR Doc. C7-209 Filed 1-22-07; 8:45 am]

BILLING CODE 1505-01-D